DEPARTMENT OF TRANSPORTATION

Surface Transportation Board

[STB Finance Docket No. 35073]

Northwestern Pacific Railroad Company—Change in Operators Exemption—North Coast Railroad Authority, Sonoma-Marin Area Rail Transit District and Northwestern Pacific Railway Co., LLC ¹

¹ This notice corrects the notice published on August 24, 2007, at 72 FR 48729, which erroneously stated the earliest date for consummation of this transaction to be August 16, 2007 and, in one instance, misstated the docket number.

Northwestern Pacific Railroad Company (NWPCO), a noncarrier, has filed a verified notice of exemption under 49 CFR 1150.31 to change operators from Northwestern Pacific Railway Co., LLC (NWPY) to NWPCO on a line of railroad owned by North Coast Railroad Authority (NCRA) and Sonoma-Marin Area Rail Transit District (SMART). The line, entirely within California, includes: (1) The Willits Segment extending from NWP milepost 142.5 near Outlet Station to NWP milepost 68.22 near Healdsburg, a distance of approximately 74.3 miles; (2) the Healdsburg Segment extending from NWP milepost 68.2 near Healdsburg to NWP milepost 26.96 near Novato, a distance of approximately 41.2 miles; (3) the Novato Segment extending from milepost 26.96 near Novato to NWP milepost 25.6 near Ignacio, a distance of approximately 1.4 miles; and (4) the Lombard Segment extending from NWP milepost 25.6 near Ignacio to Lombard Station in Napa County, SP milepost 63.4, a distance of approximately 25.3 miles. These segments (“the Line”) total approximately 142 miles.² This change in operators is exempt under 49 CFR 1150.31(a)(3).³

² NCRA acquired the authority to operate the Line pursuant to North Coast Railroad Authority—Lease and Operation Exemption—California Northern Railroad Company, Northwestern Pacific Railroad Authority, and Golden Gate Bridge, Highway and Transportation District, STB Finance Docket No. 33115 (STB Served Sept. 27, 1996). In turn, NCRA contracted its surface freight easement rights on the Line to NWPY pursuant to Northwestern Pacific Railway Co., LLC—Lease and Operation Exemption—North Coast Railroad Authority, Northwestern Pacific Railroad Authority and Golden Gate Bridge, Highway and Transportation District, STB Finance Docket No. 33998 (STB served Feb. 6, 2001). SMART obtained an ownership interest in the southern portion of the Line pursuant to Sonoma-Marin Area Rail Transit District—Acquisition Exemption—Northwestern Pacific Railroad Authority, STB Finance Docket No. 34400 (STB served Mar. 10, 2004).

³ In order to qualify for a change in operators exemption, an applicant must give notice to shippers on the line. See 49 CFR 1150.32(b). NWPCO has certified that it gave notice of the proposed transaction to affected shippers concurrently with the filing of this notice of exemption.

NWPCO certifies that upon consummation of the transaction, it will become a Class III rail carrier, that its projected revenues as a result of this transaction will not exceed those that would qualify it as a Class III rail carrier, and that such revenues would not exceed $5 million annually. NWPCO indicates that it intends to consummate the transaction on or after September 8, 2007, which is the earliest the transaction can be consummated (30 days after the exemption was filed).⁴

⁴ This transaction renders moot the notice of exemption filed in STB Docket No. 34842, Sonoma-Marin Area Rail Transit District—Acquisition Exemption—Northwestern Pacific Railroad, which will be dismissed in a separate decision.

If the verified notice contains false or misleading information, the exemption is void ab initio. Petitions to reopen the proceeding to revoke the exemption under 49 U.S.C. 10502(d) may be filed at any time. The filing of a petition to revoke will not automatically stay the effectiveness of the exemption. Stay petitions must be filed by August 31, 2007 (at least 7 days before the exemption becomes effective).

An original and 10 copies of all pleadings, referring to STB Finance Docket No. 35073, must be filed with the Surface Transportation Board, Office of the Secretary, Case Control Unit, 395 E Street, SW., Washington, DC 20523-0001. In addition, a copy of each pleading must be served on Douglas H. Bosco, Northwestern Pacific Railroad Company, 37 Old Courthouse Square, Suite 200, Santa Rosa, CA 95404, and Robert A. Wimbish, Baker & Miller, PLLC, 2401 Pennsylvania Avenue, NW., Suite 300, Washington, DC 20037.

Board decisions and notices are available on our Web site at http://www. stb.dot.gov.

Decided: August 24, 2007.
By the Board, Joseph H. Dettmar, Acting Director, Office of Proceedings.
Vernon A. Williams,
Secretary.

[FR Doc. E7-17164 Filed 8-29-07; 8:45 am]

BILLING CODE 4915-01-P